FEDERAL MARITIME COMMISSION

Ocean Transportation Intermediary License Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/address | Date reissued
015941N | Cargo Plus, Inc., 8333 Wessex Drive, Pennsauken, NJ 08109 | June 23, 2010.
18547N | Pallets in Motion, 426 W. Florence Avenue, Inglewood, CA 90301 | June 26, 2010.
020151NF | United Global Logistics, LLC, 1139 East Jersey Street, Suite 417, Elizabeth, NJ 07201. | May 27, 2010.

Sandra L. Kusumoto,
Director, Bureau of Certification and Licensing.

[FR Doc. 2010-19146 Filed 8-4-10; 8:45 am]

BILLING CODE P